DEPARTMENT OF THE INTERIOR

Bureau of Land Management

[NV-010-1990-EX]

Final Environmental Impact Statement; Leeville Project, Eureka Co., NV

AGENCY: Bureau of Land Management, Interior.

ACTION: Notice of availability.

SUMMARY: Pursuant to section 102(2)(c) of the National Environmental Policy Act of 1969, notice is given that the Elko Field Office of the Bureau of Land Management (BLM) has prepared, by third party contractor, a Final Environmental Impact Statement on Newmont Mining Corporation's Leeville Project, located in Eureka County, Nevada.

EFFECTIVE DATES: The Final Environmental Impact Statement will be distributed and made available to the public on July 26, 2002. The period of availability for public review for the Final Environmental Impact Statement ends August 26, 2002. At that time a Record of Decision will be issued regarding the Proposed Action.

ADDRESSES: A copy of the Final Environmental Impact Statement can be obtained from: Bureau of Land Management, Elko Field Office, 3900 Idaho Street, Elko, Nevada 89801. The Final Environmental Impact Statement may also be downloaded from the Elko Field Office Internet site at http://www.nv.blm.gov/elko.

FOR FURTHER INFORMATION CONTACT: Deborah McFarlane, Project Manager, at the above Elko Field Office address or telephone (775) 753-0200.

SUPPLEMENTARY INFORMATION: Proposed action is to develop and operate an underground mine and ancillary facilities, including dewatering. An abbreviated Final Environmental Impact Statement has been produced. The abbreviated Final Environmental Impact Statement contains copies of substantive comments received on the draft EIS, responses to those comments, and an errata section with specific modifications and corrections to the draft in response to the comments. Alternatives analyzed include the Proposed Action, No Action, (A) Eliminate Canal Portion of Water Discharge Pipeline System, (B) Backfill Shafts, and (C) Relocation of the Waste Rock Disposal Facility and Refractory Ore Stockpile. The Bureau of Land Management's preferred alternative is to implement A, B, and C.

Robert V. Abbey,
State Director, Nevada.

[FR Doc. 02-18186 Filed 7-25-02; 8:45 am]

BILLING CODE 4310-HC-P